DEPARTMENT OF LABOR

Employment and Training Administration

[TA-W-58,970]

ADC, Shakopee, MN; Notice of Termination of Investigation

Pursuant to Section 221 of the Trade Act of 1974, as amended, an investigation was initiated on March 7, 2006 in response to a worker petition filed by a state agency representative on behalf of workers at ADC, Shakopee, Minnesota.

The petitioner has requested that the petition be withdrawn. Consequently, the investigation has been terminated.

Signed at Washington, DC, this 16th day of March 2006.
Linda G. Poole,
Certifying Officer, Division of Trade Adjustment Assistance.

[FR Doc. E6-4602 Filed 3-28-06; 8:45 am]

BILLING CODE 4510-30-P